DEPARTMENT OF JUSTICE

Notice of Lodging of Proposed Consent Decree Under The Comprehensive Environmental Response, Compensation, and Liability Act

On November 5, 2012, the Department of Justice lodged a proposed consent decree with the United States District Court for the Western District of Washington in the lawsuit entitled United States v. Index Sportsmen, Inc. (aka Index Sportsmen Club), Civil Action No. 12-1949.

The United States filed this CERCLA lawsuit on behalf of the United States Forest Service. The complaint requests recovery of costs that the United States incurred responding to releases of hazardous substances at the Index Shooting Range Site in the Mt. Baker-Snoqualmie National Forest near Index, Washington. Index Sportsmen, Inc., operated a trap shooting range at the site for more than 60 years and the site is contaminated with lead and arsenic from discarded shot. The proposed consent decree requires total payments of about $687,000, which includes $600,000 to be paid by American States Insurance Company. In return, the United States agrees not to sue the defendant under sections 106 and 107(a) of CERCLA.

The publication of this notice opens a period for public comment on the consent decree. Comments should be addressed to the Assistant Attorney General, Environment and Natural Resources Division, and should refer to United States v. Index Sportsmen, Inc., D.J. Ref. No. 90-11-3-10090. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the consent decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Robert E. Maher, Jr.,
Acting Deputy Section Chief, Environmental Enforcement Section, Environment and Natural Resources Division.

[FR Doc. 2012-27436 Filed 11-8-12; 8:45 am]

BILLING CODE 4410-15-P